DEPARTMENT OF COMMERCE

National Oceanic and Atmospheric Administration

RIN 0648-XA297

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Snapper Grouper Advisory Panel (AP) in Charleston, SC.

DATES: The meeting will take place April 13-14, 2011. See SUPPLEMENTARY INFORMATION for specific dates and times.

ADDRESSES: The meeting will be held at the Town & Country Inn, 2008 Savannah Hwy, Charleston, SC 29407; telephone: (800) 334-6660.

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; telephone: (843) 571-4366 or toll free (866) SAFMC-10; fax: (843) 769-4520; e-mail: kim.iverson@safmc.net.

SUPPLEMENTARY INFORMATION: Members of the Snapper Grouper AP will meet from 9 a.m. until 5 p.m. on April 13, 2011 and from 9 a.m. until 12 p.m. on April 14, 2011.

AP members will receive updates on the following amendments: the Comprehensive Annual Catch Limit (ACL) Amendment addressing ACLs and accountability measures for species within the snapper grouper management complex, dolpin, wahoo and golden crab, Regulatory Amendment 11 to the Snapper Grouper Fishery Management Plan (FMP) addressing alternatives for ending overfishing of specked hind and warsaw grouper relative to the current deepwater closure in place, and Amendment 24 regarding the rebuilding of red grouper stocks. The AP will also receive an update on the meeting of the Scientific and Statistical Committee (SSC) and the status of Amendment 18A to the Snapper Grouper FMP regarding commercial regulations for golden tilefish and black sea bass. Regional management and management in the Florida Keys will be discussed. The AP will provide recommendations to the Council.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Dated: March 11, 2011.
Tracey L. Thompson,
Acting Director, Office of Sustainable Fisheries, National Marine Fisheries Service.

[FR Doc. 2011-6094 Filed 3-15-11; 8:45 am]

BILLING CODE 3510-22-P